DEPARTMENT OF AGRICULTURE

Forest Service

Ozark-Ouachita Resource Advisory Committee

AGENCY: Forest Service, USDA.

ACTION: Notice of meeting.

SUMMARY: The Ozark-Ouachita Rescource Advisory Committee will meet in Waldron, Arkansas. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 25, 2012, beginning at 4:30 p.m. CST. Alternate meeting dates are September 26, 27, and 28 in case of postponement due to weather, lack of committee quorum, or other unforeseen circumstances. Please call 501-321-5202 prior to September 25th to determine postponment or rescheduling.

ADDRESSES: The meeting will be held at the Scott County Courthouse, 100 W. First Street, Waldron, AR 71958. Written comments may be submitted as described under Supplementary Information. All comments, including names and addresses when provided, are placed in the record and are available for public inspection and copying. The public may inspect comments received at the Ouachita National Forest Supervisor's Office. Please call ahead to 501-321-5202 to facilitate entry into the building to view comments.

FOR FURTHER INFORMATION CONTACT: Caroline Mitchell, Committee Coordinator, USDA, Ouachita National Forest, P.O. Box 1270, Hot Springs, AR 71902. (501-321-5318). Individuals who use telecommunication devices for the deaf (TDD) may call the Federal Information Relay Service (FIRS) at 1-800-877-8339 between 8:00 a.m. and 8:00 p.m., Eastern Standard Time, Monday through Friday.

SUPPLEMENTARY INFORMATION: The following business will be conducted: review and recommend projects authorized under title II of the Act. Anyone who would like to bring related matters to the attention of the committee may file written statements with the committee staff before the meeting. The agenda will include time for people to make oral statements of three minutes or less. Individuals wishing to make an oral statement should request in writing by September 18, 2012, to be scheduled on the agenda. Send written comments and requests to Ouachita National Forest, P.O. Box 1270, Hot Springs, AR 71902, or by email to carolinemitchell@fs.fed.us, or via facsimile to 501-321-5399. A summary of the meeting will be posted at https://fs.fed.us/fsfiles/unit/wo/secure_rural_schools.nsf within 21 days of the meeting.

Meeting Accommodations: If you require sign language interpreting, assistive listening devices or other reasonable accommodation, please request this in advance of the meeting by contacting the person listed in the section titled FOR FURTHER INFORMATION CONTACT. All reasonable accommodation requests are managed on a case by case basis.

Dated: August 16, 2012.
Bill Pell,
Designated Federal Official.

[FR Doc. 2012-20796 Filed 8-22-12; 8:45 am]

BILLING CODE 3410-11-P